DEPARTMENT OF ENERGY

Federal Energy Regulatory Commission

[Project No. 12778-004]

Fall Creek Hydro, LLC; Notice of Application Tendered for Filing With the Commission and Establishing Procedural Schedule for Licensing and Deadline for Submission of Final Amendments

Take notice that the following hydroelectric application has been filed with the Commission and is available for public inspection.

a. Type of Application: Original major license.

b. Project No.: 12778-004.

c. Date Filed: February 28, 2011.

d. Applicant: Fall Creek Hydro, LLC.

e. Name of Project: Fall Creek Dam Hydroelectric Project.

f. Location: The proposed project would be constructed at the existing U.S. Army Corps of Engineers' (Corps) Fall Creek Dam located on Fall Creek near the towns of Springfield and Eugene in Lane County, Oregon. The project would occupy 6.53 acres of Federal lands managed by the Corps.

g. Filed Pursuant to: Federal Power Act, 16 U.S.C. 791(a)-825(r).

h. Applicant Contact: Brent L. Smith, Chief Operating Officer; Symbiotics LLC; 371 Upper Terrace, Suite 2; Bend, OR 97702; Telephone (541) 330-8779.

i. FERC Contact: Lee Emery; (202) 502-8379 or lee.emery@ferc.gov.

j. This application is not ready for environmental analysis at this time.

k. Project Description: The proposed project would consist of the following new facilities: (1) An intake structure located on the face of the Corps dam and installed directly above one of the existing intake structures; (2) two 8-foot-diameter by 110-foot-long steel penstocks that would bifurcate the existing south regulating outlet to deliver flow to a powerhouse and a fish bypass system; (3) a 60-foot by 75-foot concrete powerhouse that would be located downstream from the toe of the dam and would house two Francis generating units and one Kaplan generating unit with a total installed capacity of 10 megawatts; (4) a fish bypass system (to provide downstream fish passage) that would include, among other things, Eicher fish screens, steel pipes, multi-level release ports, open channels, a fish counting station, and a discharge culvert; (5) one 442-foot-long, 12.5-kilovolt (kV), single-circuit transmission line that would be buried and extend from the powerhouse to an existing power line at the base of the dam; and (6) appurtenant facilities.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule: The application will be processed according to the preliminary licensing schedule below. Revisions to the schedule may be made as appropriate.

Milestone | Target date
Notice of Acceptance/Notice of Ready for Environmental Analysis | May 2011.
Filing of recommendations, preliminary terms and conditions, and fishway prescriptions | July 2011.
Commission issues Draft EA or EIS | January 2012.
Comments on Draft EA or EIS | February 2012.
Modified Terms and Conditions | April 2012.
Commission Issues Final EA or EIS | July 2012.

o. Final amendments to the application must be filed with the Commission no later than 30 days from the issuance date of the notice of ready for environmental analysis.

Dated: March 11, 2011.
Kimberly D. Bose,
Secretary.

[FR Doc. 2011-6334 Filed 3-17-11; 8:45 am]

BILLING CODE 6717-01-P